POSTAL SERVICE

39 CFR Part 111

Revised Postage and Fee Refund Criteria

AGENCY: Postal Service ™.

ACTION: Proposed rule.

SUMMARY: The Postal Service ™ proposes to revise Mailing Standards of the United States Postal Service, Domestic Mail Manual (DMM®) section 604.9 to update the hourly charges and related postage threshold used in assessing certain types of postage refunds and to provide the allowable time periods for requesting refunds for extra service fees.

DATES: Submit comments on or before February 3, 2014.

ADDRESSES: Mail or deliver written comments to the manager, Product Classification, U.S. Postal Service®, 475 L'Enfant Plaza SW., Room 4446, Washington, DC 20260-5015. You may inspect and photocopy all written comments at USPS® Headquarters Library, 475 L'Enfant Plaza SW., 11th Floor N, Washington, DC by appointment only between the hours of 9 a.m. and 4 p.m., Monday through Friday, by calling 202-268-2906 in advance. Email comments, containing the name and address of the commenter, may be sent to: ProductClassification@usps.gov, with a subject line of “Revised Postage and Fee Refund Criteria”. Faxed comments are not accepted.

FOR FURTHER INFORMATION CONTACT: Douglas Germer, Revenue/Field Accounting, douglas.g.germer@usps.gov, 202-268-8522; Karen Key, Manager Shipping Products, karen.f.key@usps.gov, 202-268-7492; or Suzanne Newman, Product Classification, suzanne.j.newman@usps.gov, 202-268-5581.

SUPPLEMENTARY INFORMATION: On March 14, 2013, the Postal Service published a notice of proposed rulemaking (78 FR 16213-16220) to eliminate hourly charges for processing refunds and replace it with a charge of 10% of the face value of the postage refund amount being requested. This proposal affected postage refunds for dated or undated, unused postage meter indicia and for stamps affixed to Business Reply Mail® (BRM) pieces.

The proposed rule also included adding general language to the DMM on refund periods for extra service fees of not less than 10 days, or more than 18 months, for services not rendered. The proposed rule included a 30-day comment period. After review of the comments and further analysis, the Postal Service is publishing this revision of its proposed rule.

The Postal Service proposes to align the current assessments for processing postage refunds, in effect since 2003, with current costs. Therefore, if this revised rule is adopted, the Postal Service will update the hourly factor used in various refund assessments from $35.00 an hour to $50.00 an hour. Additionally, the threshold for assessing certain postage refunds at the hourly factor will be updated from postage amounts exceeding $350.00 to postage amounts exceeding $500.00. The refund assessment amounts in this proposed rule would not revise the current standards for providing service failure refunds or when USPS® is at fault.

The Postal Service also proposes to add language to the DMM to provide customers with information on refund time periods for extra service fees that align with the revised claims filing periods (being made effective January 26, 2014) to promote timely adjudication. Therefore, if this proposed rule is adopted, the Postal Service will include the following information in the DMM: Refund requests for Registered Mail ™, Certified Mail®, Signature Confirmation ™, USPS Tracking ™, Adult Signature services, and insurance fees must be made by the mailer no sooner than 10 days, or more than 60 days, from the date the service was purchased.

Additionally, if these proposed changes are adopted, PS Form 3533, Application for Refund of Fees, Products and Withdrawal of Customer Accounts, will be revised to reflect the changes.

List of Subjects in 39 CFR Part 111

Administrative practice and procedure, Postal Service.

Although we are exempted from the notice and comment requirements of the Administrative Procedure Act (5 U.S.C. 553(b), (c)) regarding proposed rulemaking by 39 U.S.C. 410(a), we invite public comments on the following proposed revisions to Mailing Standards of the United States Postal Service, Domestic Mail Manual (DMM), incorporated by reference in the Code of Federal Regulations. See 39 CFR 111.1. Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

600 Basic Standards for All Mailing Services

* * * * *

604 Postage Payment Methods

* * * * *

9.0 Exchanges and Refunds

* * * * *

9.2 Postage and Fee Refunds

* * * * *

9.2.4 Postage Refunds Not Available

Refunds are not made for the following:

* * * * *

[Add new item 9.2.4h to read as follows:]

h. For extra service fees paid for Registered Mail, Certified Mail, Signature Confirmation, USPS Tracking, Adult Signature services and insurance when a refund request is made by the mailer less than 10 days, or more than 60 days, from the date the service was purchased.

* * * * *

9.2.6 Postage Affixed to Business Reply Mail

[Revise the seventh sentence of 9.2.6 to read as follows:]

* * * A charge of $50.00 per hour, or fraction thereof, is assessed for the workhours used to process the credit or refund. * * *

* * * * *

9.3.2 General Standards for Metered Indicia Refunds

* * * For both types of unused metered indicia, submit refund requests as follows:

* * * * *

b. * * * Charges for processing a refund request for unused, dated meter indicia are as follows, depending on the total face value of the indicia:

[Revise 9.3.2b1 and 9.3.2b2 to read as follows:]

1. When the total face value of the indicia is $500.00 or less, the amount refunded is 90% of the face value. USPS may process the refund payment via a no-fee postal money order; or

2. When the total face value of the indicia is more than $500.00, the amount refunded is the total face value reduced by $50.00 per hour for the USPS time to process the refund, with a minimum charge of $50.00. The charge is $50.00 for each hour spent, with the last fraction of an hour treated as a full hour. Payment processing for refunds of $500.01 or more is through the Accounting Service Center.

* * * * *

We will publish an appropriate amendment to 39 CFR part 111 to reflect these changes if our proposal is adopted.

* * * * *

Stanley F. Mires,
Attorney, Legal Policy & Legislative Advice.

[FR Doc. 2013-31443 Filed 1-2-14; 8:45 am]

BILLING CODE 7710-12-P